DEPARTMENT OF EDUCATION

Office of Innovation and Improvement; Overview Information; School Leadership Grant Program; Notice Inviting Applications for New Awards for Fiscal Year (FY) 2010

Catalog of Federal Domestic Assistance (CFDA) Number: 84.363A.

DATES: Applications Available: February 9, 2010.

Deadline for Notice of Intent to Apply: March 8, 2010.

Date of Pre-Application Meetings: February 19, 2010.

Deadline for Transmittal of Applications: April 6, 2010.

Deadline for Intergovernmental Review: June 7, 2010.

Full Text of Announcement

I. Funding Opportunity Description

Purpose of Program: The School Leadership Grant Program (SLP) is designed to assist high-need local educational agencies (LEAs) in recruiting and training principals (including assistant principals) through such activities as:

• Providing financial incentives to aspiring new principals.

• Providing stipends to principals who mentor new principals.

• Carrying out professional development programs in instructional leadership and management.

• Providing incentives that are appropriate for teachers or individuals from other fields who want to become principals and that are effective in retaining new principals.

Priorities: Under this competition we are particularly interested in applications that address the following three invitational priorities.

Invitational Priorities: For FY 2010, these priorities are invitational priorities. Under 34 CFR 75.105(c)(1), we do not give an application that meets the invitational priorities a competitive or absolute preference over other applications.

These priorities are:

1. Projects that develop and implement, enhance, or expand innovative programs to build the capacity of principals (including assistant principals) to lead and achieve teaching and learning gains in persistently lowest-achieving schools.

2. Projects that demonstrate evidence of the LEA's commitment to identify, implement, and support school conditions that facilitate efforts by the principals (including assistant principals) prepared by this program to improve persistently lowest-achieving schools.

3. Projects that collect and use student achievement data to assess the effect of principals (including assistant principals) prepared through this program on student learning and for continuous program improvement.

Note: Applicants are encouraged to describe their methods or strategies for collecting and using data to assess the impact of participants prepared through the project on student learning in the participants' schools. Applicants also are strongly encouraged to describe how these data will be used for continuous program improvement.

Background: The Secretary has set an ambitious goal of turning around the nation's 5,000 lowest-achieving schools over the next five years, as part of a broader strategy to reduce the dropout rate, improve the high school graduation rate, and increase the number of students who graduate prepared for success in college and their careers. Principals are a major driver of school improvement and teacher quality, and second only to teachers in their impact on student achievement.¹ A strong principal can have a positive impact on teachers' instructional practice, and on the learning outcomes of hundreds of students. In school “turnaround” models and instructional programs, a consistently recognized determinant of success is not only the quality of the model or program but the school leader's ability to implement the model or program effectively.

¹ Leithwood, Kenneth et al. “How Leadership Influences Student Learning.” Wallace Foundation, 2004.

Despite their importance, school leaders are often denied the autonomy, resources, or support they need to implement models and programs and lead their schools effectively. To recruit and retain highly talented school leaders to serve in underperforming schools, district leaders must remove obstacles and give these individuals real flexibility over money, time, operations, and staffing to enable them to lead their schools.²

² Calkins, Andrew et al. “The Turnaround Challenge: Why America's best opportunity to dramatically improve student achievement lies in our worst-performing schools.” 2007.

In the past, the SLP has funded projects that have focused on creating alternative pathways for principal certification or licensure and providing professional development to improve the skills of existing principals in schools in high-need LEAs. In this notice, the Secretary encourages applicants to look beyond preparation pathways and to promote district conditions that support these school leaders in leading and turning around the persistently lowest-achieving schools in the participating LEAs. In addition, the Secretary encourages applications for projects that will collect and use data to determine the effect of these school leaders on student learning in the schools in which they serve and for continuous program improvement.

For the purpose of these invitational priorities, the term “persistently lowest-achieving school” is defined as it is under the Department's State Fiscal Stabilization Fund Program (74 FR 58436, 58487), School Improvement Grants (74 FR 65618, 65652), and Race to the Top Fund (74 FR 59836, 59840).

The definition of persistently lowest-achieving school is in this notice under Section III: Eligibility Information (3) Other.

Addressing one or more of these priorities will not give an applicant an advantage over another applicant who does not choose to respond to the invitational priorities.

Program Authority: 20 U.S.C. 6651(b).

Applicable Regulations: The Education Department General Administrative Regulations (EDGAR) in 34 CFR parts 74, 75, 77, 79, 80, 81, 82, 84, 85, 86, 97, 98 and 99.

Note: The regulations in 34 CFR part 79 apply to all applicants except federally recognized Indian tribes.

Note: The regulations in 34 CFR part 86 apply to institutions of higher education only.

II. Award Information

Type of Award: Discretionary grants.

Estimated Available Funds: $11,000,000

Estimated Range of Awards: $250,000-$750,000.

Estimated Average Size of Awards: $500,000.

Estimated Number of Awards: 15-20.

Note: The Department is not bound by any estimates in this notice.

Project Period: Up to 60 months.

III. Eligibility Information

1. Eligible Applicants: High-need LEAs; consortia of high-need LEAs; and partnerships of high-need LEAs, non-profit organizations (which may be a community- or faith-based organization), and institutions of higher education. Applicants must identify and confirm in their applications that the participating LEAs meet the definition of high-need LEA in section 2102(3) of the ESEA.

2. Cost Sharing or Matching: This program does not require cost sharing or matching.

3. Other: Definitions of High-Need LEA and Persistently Lowest-Achieving Schools, and Other Eligibility Information. As defined in section 2102(3) of the ESEA, the term high-need LEA means an LEA—

(a)(1) That serves not fewer than 10,000 children from families with incomes below the poverty line, or (2) for which not less than 20 percent of the children served by the LEA are from families with incomes below the poverty line; and

(b) For which there is (1) a high percentage of teachers not teaching in the academic subjects or grade levels the teachers were trained to teach, or (2) a high percentage of teachers with emergency, provisional, or temporary certification or licensing.

So that the Department may be able to confirm the eligibility of the LEAs that projects propose to serve, applicants are expected to include information in their applications that demonstrates that each participating LEA in the project is a high-need LEA, as defined in section 2102(3) of the ESEA. This information should be based on the most recent available data on the number of children from families with incomes below the poverty line that the LEA serves. When presenting evidence to support that each participating LEA meets the ESEA definition of a high-need LEA, an applicant should consider the following:

The Department is not aware of any reliable data that are available to LEAs—other than the data periodically gathered by the U.S. Census Bureau—that would show that an LEA serves the required number or percentage of children (individuals ages 5 through 17) from families below the poverty line (as defined in section 9101(33) of the ESEA).

Note: The data that many LEAs collect on the number or percentage of children eligible for free- and reduced-priced meal subsidies may not be used to satisfy the requirements under component (a) of the ESEA definition of high-need LEA. Those data do not reflect children from families with incomes below the poverty line, as defined in section 9101(33) of the ESEA.

Therefore, absent a showing of alternative LEA data that reliably show the number of children from families with incomes below the poverty line that are served by the LEA, the eligibility of an LEA as a high-need LEA under component (a) would be determined on the basis of the most recent U.S. Census Bureau data. U.S. Census Bureau data are available for all school districts with geographic boundaries that existed when the U.S. Census Bureau collected its information. The link to the census data is: http://www.census.gov/hhes/www/saipe/data/index.html.

The Department also makes these data available at its Web site at: http://www.ed.gov/programs/lsl/eligibility.html. (Although the Department posted this listing specifically for the Improving Literacy through School Libraries program, these same data apply to the ESEA definition of a high-need LEA used for purposes of determining eligibility under the SLP.)

With regard to component (b)(1) of the ESEA definition of high-need LEA, the Department interprets the phrase “a high percentage of teachers not teaching in the academic subjects or grade levels that the teachers were trained to teach” as being equivalent to “a high percentage of teachers teaching out of field.” The Department expects that LEAs that rely on component (b)(1) of the ESEA definition of high-need LEA will demonstrate that they have a high percentage of teachers teaching out of field. The Department is not aware of any specific data that would demonstrate a “high percentage” of teachers teaching out of field. Accordingly, the Department will review this aspect of an LEA's proposed eligibility on a case-by-case basis. To decrease the level of uncertainty, an applicant might choose instead to demonstrate that each participating LEA meets the eligibility test for a high-need LEA under component (b)(2) of the ESEA definition.

For component (b)(2) of the ESEA definition of high-need LEA, the data that LEAs likely will find most readily available on the percentage of teachers with emergency, provisional, or temporary certification or licensing are the data they provide to their States for inclusion in the reports on the quality of teacher preparation that the States provide to the Department in October of each year as required by section 207 of the Higher Education Act of 1965, as amended (HEA). In these reports, States provide the percentage of teachers in their LEAs teaching on waivers of State certification, both on a statewide basis and in high-poverty LEAs. As reflected in the State reports the Department most recently received in October 2008, the national average percentage of teachers on waivers in high-poverty LEAs is 1.3 percent.

Persistently lowest-achieving school: For the purpose of the invitational priorities in this notice, a persistently lowest-achieving school is, as determined by the State, (1) any Title I school in improvement, corrective action, or restructuring that is (a) among the lowest-achieving five percent of Title I schools in improvement, corrective action, or restructuring or the lowest-achieving five Title I schools in improvement, corrective action, or restructuring in the State, whichever number of schools is greater; or (b) a high school that has had a graduation rate as defined in 34 CFR 200.19(b) that is less than 60 percent over a number of years; and (2) any secondary school that is eligible for, but does not receive, Title I funds that is (a) among the lowest-achieving five percent of secondary schools or the lowest-achieving five secondary schools in the State that are eligible for, but do not receive, Title I funds, whichever number of schools is greater; or (b) a high school that has had a graduation rate as defined in 34 CFR 200.19(b) that is less than 60 percent over a number of years.

IV. Application and Submission Information

1. Address to Request Application Package: ED PUBS, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.363A.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this program. Page Limit: The application narrative is where you, the applicant, address the selection criteria that reviewers use to evaluate and score your application. Applicants are strongly encouraged to limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to the application cover sheet; the budget section, including the narrative budget justification; the assurances and certifications; or the one-page abstract, the resumes, the bibliography, or the letters of support. However, the page limit does apply to all of the application narrative section.

3. Submission Dates and Times:

Applications Available: February 9, 2010.

Deadline for Notice of Intent to Apply: March 8, 2010.

Date of Pre-Application Meetings: February 19, 2010.

The Department will hold two pre-application meetings for prospective applicants on February 19, 2010. The first meeting will be held from 9:30 a.m. to 12:30 p.m., and the second meeting (a repeat of the morning meeting) will be held from 2:30 p.m. to 5:30 p.m. at the U.S. Department of Education, Barnard Auditorium, 400 Maryland Avenue, SW., Washington, DC 20202. Interested parties are invited to participate in this meeting to discuss the purpose of the SLP, invitational priorities, selection criteria, application content, submission requirements, and reporting requirements. This site is accessible by Metro on the Blue, Orange, Green, and Yellow lines at the Seventh Street and Maryland Avenue exit of the L'Enfant Plaza station.

Individuals interested in attending this meeting are encouraged to pre-register by e-mailing their name, organization, and contact information with the subject heading “PRE-APPLICATION MEETING” to Schoolleadershipmatters@ed.gov. There is no registration fee for attending this meeting. For further information contact Beatriz Ceja, U.S. Department of Education, Office of Innovation and Improvement, room 4W210, 400 Maryland Avenue, SW., Washington, DC 20202. Telephone: (202) 205-5009 or by e-mail: Schoolleadershipmatters@ed.gov.

Assistance to Individuals With Disabilities at the Pre-Application Meeting

The meeting site is accessible to individuals with disabilities. If you will need an auxiliary aid or service to participate in the meeting (e.g., interpreting service, assistive listening device, or materials in an alternate format), notify the contact person listed in section VII of this notice at least two weeks before the scheduled meeting date. Although we will attempt to meet a request we receive after that date, we may not be able to make available the requested auxiliary aid or service because of insufficient time to arrange it.

Deadline for Transmittal of Applications: April 6, 2010. Applications for grants under this program must be submitted electronically using the Electronic Grant Application System (e-Application) accessible through the Department's e-Grants site. For information (including dates and times) about how to submit your application electronically, or in paper format by mail or hand delivery if you qualify for an exception to the electronic submission requirement, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: June 7, 2010.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program must be submitted electronically unless you qualify for an exception to this requirement in accordance with the instructions in this section.

a. Electronic Submission of Applications.

Applications for grants under the SLP—CFDA Number 84.363A must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30 p.m., Washington, DC time, on the application deadline date. Therefore, we strongly recommend that you do not wait until the application deadline date to begin the application process.

• The hours of operation of the e-Grants Web site are 6 a.m. Monday until 7 p.m. Wednesday; and 6 a.m. Thursday until 8 p.m. Sunday, Washington, DC time. Please note that, because of maintenance, the system is unavailable between 8 p.m. on Sundays and 6 a.m. on Mondays, and between 7 p.m. on Wednesdays and 6 a.m. on Thursdays, Washington, DC time. Any modifications to these hours are posted on the e-Grants Web site. (Special Note: Due to internal database configuration changes, e-application will be closed from February 11-16, 2010; this does not affect the application deadline published in this notice.)

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of E-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Beatriz Ceja, U.S. Department of Education, 400 Maryland Avenue, SW., Room 4W210, Washington, DC 20202. FAX: (202) 401-8466.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.363A), LBJ Business Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.363A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program are from 34 CFR 75.210. The maximum score for all of the selection criteria is 100 points. The maximum score for each criterion is indicated in parentheses. Each criterion also includes the factors that the reviewers will consider in determining how well an application meets the criterion. Any notes following a selection criterion are intended to provide guidance to help applicants in preparing their applications only, and are not statutory or regulatory requirements for this competition. The criteria are as follows:

A. Quality of the project design (45 points). The Secretary considers the quality of the design of the proposed project. In determining the quality of the design of the proposed project, the Secretary considers the following factors:

1. The extent to which there is a conceptual framework underlying the proposed research or demonstration activities and the quality of that framework.

2. The extent to which the proposed activities constitute a coherent, sustained program of training in the field.

3. The extent to which the proposed project is part of a comprehensive effort to improve teaching and learning and support rigorous academic standards for students.

4. The extent to which the design for implementing and evaluating the proposed project will result in information to guide possible replication of project activities or strategies, including information about the effectiveness of the approach or strategies employed by the project.

5. The extent to which project participants are to be selected on the basis of academic excellence.

Note: The Secretary encourages applicants to address this criterion by discussing the overall project framework. The applicant is encouraged to identify its proposed partner or partners; its capacity to prepare leaders for schools in high-need LEAs; criteria for selecting and assessing program participants; and implementation strategies including the processes, tools, and protocols to be used in selecting, preparing, assessing, and supporting leaders to significantly improve schools in high-need LEAs. The Secretary also encourages applicants to describe their proposed program delivery strategies, such as (1) Plans for participants to have school-based work experiences or serve as residents with experienced, highly effective school leaders, (2) plans for participants to receive intensive induction support, including mentoring and coaching, and (3) placement and retention strategies that include follow-up support.

B. Quality of the project evaluation (25 points). The Secretary considers the quality of the evaluation to be conducted of the proposed project. In determining the quality of the evaluation, the Secretary considers the following factors:

1. The extent to which the methods of evaluation include the use of objective performance measures that are clearly related to the intended outcomes of the project and will produce quantitative and qualitative data to the extent possible.

2. The extent to which the methods of evaluation will provide performance feedback and permit periodic assessment of progress toward achieving intended outcomes.

Note: The Secretary encourages applicants to consider how this criterion may affect both their annual performance reports and the final evaluation submitted under 34 CFR 75.590. In addition, the Secretary encourages applicants to address this criterion by including proposed benchmarks for assessing both short- and long-term progress toward the specific project objectives and outcome measures they would use to assess the project's impact on teaching and learning or other important outcomes for project participants. Applicants may consider the use of “logic models” to identify the project's inputs, outputs, and outcomes.

Questions to consider when responding to the evaluation criterion might include:

• What types of data will be collected?

• When will the data be collected?

• What evaluation instruments will be developed and when?

• How will the data be analyzed?

• How will the applicant use the data to monitor progress of the funded project and to provide accountability information both about the success at the initial site or sites and about effective strategies for replication in other settings?

C. Significance (20 points). The Secretary considers the significance of the proposed project. In determining the significance of the proposed project, the Secretary considers the following factors:

1. The potential contribution of the proposed project to increased knowledge or understanding of educational problems, issues, or effective strategies.

2. The likelihood that the proposed project will result in system change or improvement.

3. The importance or magnitude of the results or outcomes likely to be attained by the proposed project, especially improvements in teaching and student achievement.

Note: Applicants are encouraged to describe how the proposed project will affect teaching and student learning in the proposed service area, and, in particular, how it will enable the LEA to meet its need for principals who have the skills and competencies necessary to significantly improve schools in high-need LEAs.

D. Quality of the management plan (10 points). The Secretary considers the quality of the management plan for the proposed project. In determining the quality of the management plan for the proposed project, the Secretary considers the following factors:

1. The adequacy of the management plan to achieve the objectives of the proposed project on time and within budget, including clearly defined responsibilities, timelines, and milestones for accomplishing project tasks.

2. How the applicant will ensure that a diversity of perspectives are brought to bear in the operation of the proposed project, including those of parents, teachers, the business community, a variety of disciplinary and professional fields, recipients or beneficiaries of services, or others, as appropriate.

3. The adequacy of procedures for ensuring feedback and continuous improvement in the operation of the proposed project.

Note: The Secretary encourages applicants to address this criterion by providing such information as:

• The title, responsibilities, and time commitment of each key individual helping implement the project's goals and objectives.

• A year-to-year timeline for undertaking important project activities, with benchmarks for determining whether the project is achieving its stated goals and objectives.

• The strategies for monitoring whether or not the project is meeting its goals and objectives, and for making mid-course corrections, as appropriate.

• The strategies for including the identified partners and other stakeholders in meeting the project's goals and objectives.

• Evidence of committed engagement by identified partners.

2. Applicant's Past Performance and Compliance History: In accordance with 34 CFR 75.217(d)(3)(ii), the Secretary may consider an applicant's past performance and compliance history when evaluating applications and in making funding decisions.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established two performance measures for assessing the effectiveness of the SLP: (1) the percentage of participants who become certified principals including assistant principals who are then placed and retained in schools in high-need LEAs, and (2) the percentage of principals including assistant principals who participate in professional activities, show an increase in their pre-post scores on a standardized measure of principal skills, and are retained in their positions in schools in high-need LEAs for at least two years. Grantees will be expected to provide data on each component of the two measures.

VII. Agency Contacts

FOR FURTHER INFORMATION CONTACT: Beatriz Ceja, U.S. Department of Education, 400 Maryland Avenue, SW., room 4W210, Washington, DC 20202-5960. Telephone: (202) 205-5009 or by e-mail: Schoolleadershipmatters@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: February 2, 2010.
James H. Shelton, III,
Assistant Deputy Secretary for Innovation and Improvement.

[FR Doc. 2010-2561 Filed 2-4-10; 8:45 am]

BILLING CODE 4000-01-P